DEPARTMENT OF AGRICULTURE

National Institute of Food and Agriculture

Notice of Intent To Extend and Revise a Currently Approved Information Collection

AGENCY: National Institute of Food and Agriculture, USDA.

ACTION: Notice and request for comments.

SUMMARY: In accordance with the Paperwork Reduction Act of 1995 and Office of Management and Budget (OMB) regulations, this notice announces the National Institute of Food and Agriculture's (NIFA) intention to request a new information collection titled Small Business Innovation Research (SBIR) Program Lifecycle Certification. This information collection replaces an existing information collection, Small Business Innovation Research (SBIR) Program Lifecycle Certification.

DATES: Written comments on this notice must be received by January 28, 2022 to be assured of consideration. Comments received after that date will be considered to the extent practicable.

ADDRESSES: You may submit comments through the Federal eRulemaking Portal: http://www.regulations.gov. Follow the instructions for submitting comments.

Instructions: All comments received will be posted without change to http://www.regulations.gov, including any personal information provided.

FOR FURTHER INFORMATION CONTACT: Robert Martin, 202-445-5388, Robert.martin3@usda.gov.

SUPPLEMENTARY INFORMATION: Title of Collection: Small Business Innovation Research (SBIR) Program Lifecycle Certification.

OMB Control Number: 4040-001.

Expiration Date of Current Approval: 12/31/2022.

Type of Request: Notice of intent to extend and revise a currently approved information collection. The burden for this collection remains unchanged.

NIFA is requesting a one-year extension for the current collection entitled “Small Business Innovation Research (SBIR) Program Lifecycle Certification.”

NIFA asks recipients of SBIR grants to submit the Lifecycle Certification form as part of their required interim and final reports. NIFA is also proposing updates to the existing Certification form to match the language provided for this form in the 2020 “SBA SBIR/STTR Policy Directive,” October 1, 2020. These changes are in response to the recommendation by the Government Accountability Office (GAO) in its SBIR Fraud Waste and Abuse Review, completed on June 30, 2021.

Abstract: The SBIR program at the U.S. Department of Agriculture (USDA) makes competitively awarded grants to qualified small businesses to support high quality, advanced concepts research related to important scientific problems and opportunities in agriculture that could lead to significant public benefit if successful.

The objectives of the SBIR Program are to: Stimulate technological innovations in the private sector; strengthen the role of small businesses in meeting Federal research and development needs; increase private sector commercialization of innovations derived from USDA-supported research and development efforts; and foster and encourage participation by women-owned and socially and economically disadvantaged small business firms in technological innovations. The USDA SBIR program is carried out in three separate phases:

1. Phase I awards to determine, insofar as possible, the scientific and technical merit and feasibility of ideas that appear to have commercial potential.

2. Phase II awards to further develop work from Phase I that meets particular program needs and exhibits potential for commercial application.

3. Phase III awards where commercial applications of SBIR- funded R(Research)/R&D (Research and Development) are funded by non-Federal sources of capital; or where products, services or further research intended for use by the Federal Government are funded by follow-on non-SBIR Federal Funding Agreements. The USDA SBIR Program is administered by the National Institute of Food and Agriculture (NIFA) of the USDA. NIFA exercises overall oversight for the policies and procedures governing SBIR grants awarded to the U.S. small business community, representing approximately 2.5% to 2.8% of the USDA extramural R/R&D budget. This represents approximately $201M in Phase II grants awarded to the U.S. small business community from 1994 to 2014. In 1982, the Small Business Innovation Research (SBIR) Grants Program (Pub. L. 97-219, 96 stat. 217), 15 U.S.C. 638, was authorized, and in 2016, The National Defense Authorization Act for Fiscal Year 2017 (Pub. L. 114-328), enacted on December 23, 2016, reauthorized the SBIR and STTR programs through September 30, 2022.

The Lifecycle Certification form is used by USDA to ensure Small Business Concerns continue to meet specific program requirements during the life of the Funding Agreement. The GAO determined that the previously approved form currently in use has material deviations from the Small Business Administration (SBA) model language. NIFA is proposing minor changes to two of the questions on the form. The proposed changes contain clarifying language intended to address the GAO's recommendation that the language on the Lifecycle Certification form should match the model SBA language.

Estimate of Burden: The annual public reporting burden for the collection of information is estimated to average one (1) hour per response. Respondents include businesses or other for-profit concerns.

Estimated Number of Respondents: 110.

Estimated Number of Responses per Respondent: 2.

Estimated Burden per Response: 1 hour.

Estimated Total Annual Burden on Respondents: 500 hours.

Comments: Comments are invited on: (a) Whether the proposed collection of information is necessary for the proper performance of the functions of the Agency, including whether the information will have practical utility; (b) the accuracy of the Agency's estimate of the burden of the proposed collection of information; (c) ways to enhance the quality, utility and clarity of the information to be collected; and (d) ways to minimize the burden of the collection of information on those who are to respond, including through the use of appropriate automated, electronic, mechanical, or other technological collection techniques or other forms of information technology.

All responses to this notice will be summarized and included in the request to OMB for approval. All comments will become a matter of public record.

Obtaining a Copy of the Information Collection: A copy of the information collection and related instructions may be obtained free of charge by contacting Robert Martin as directed above.

Done at Washington, DC, this day of November 18, 2021.
Carrie L. Castille,
Director, National Institute of Food and Agriculture, U.S. Department of Agriculture.

[FR Doc. 2021-25896 Filed 11-26-21; 8:45 am]

BILLING CODE P